Title 3—

The President

Proclamation 7571 of June 5, 2002

National Child's Day, 2002

By the President of the United States of America

A Proclamation

Children bring joy and challenge to the lives they touch. And as our next generation of leaders, they carry with them the hope of our Nation. From the excitement of watching a toddler take a first step to the satisfaction of seeing them mature into adulthood, we are blessed to share our lives and experiences with children. Their thoughts, ideas, and unique perspectives renew our appreciation for life.

National Child's Day is a time to affirm our commitment as parents, teachers, and citizens to the health, well-being, and success of our children. Our goal must be to make sure that all children have the opportunity to learn and succeed. To achieve this, we must use the resources of our families, communities, schools, and government to ensure that no child is left behind.

My Administration is strongly committed to helping boys and girls grow up in secure families that help them reach their full potential. Families forge values where children can find fulfillment and love. And children who are surrounded by love, support, and encouragement can develop self-esteem and have a strong foundation for life.

We are working to implement programs and initiatives that help families stay strong and intact; that support adoption efforts and mentoring programs; that protect children from abuse and neglect; and that encourage alcohol, drug, and sexual abstinence. We also are making great progress in helping all schools become places where every student is able and expected to learn.

While government can provide much to support children, it cannot provide the love a child needs. I encourage all community leaders, educators, faith-based organizations, and citizens to seek opportunities to mentor, encourage, and listen to our children. As we observe National Child's Day, we should also communicate to young people that their dreams, aspirations, happiness, and well-being are important to us and to our future.

NOW, THEREFORE, I, GEORGE W. BUSH, President of the United States of America, by virtue of the authority vested in me by the Constitution and laws of the United States, do hereby proclaim June 9, 2002, as National Child's Day. I urge all Americans to work within their communities to appreciate, love, and protect all of America's children. I also call upon citizens to observe this day with appropriate programs, ceremonies, and activities.

IN WITNESS WHEREOF, I have hereunto set my hand this fifth day of June, in the year of our Lord two thousand two, and of the Independence of the United States of America the two hundred and twenty-sixth.

B

[FR Doc. 02-14648

Filed 6-7-02; 8:45 am]

Billing code 3195-01-P